SMALL BUSINESS ADMINISTRATION

Claritas Capital Specialty Debt II, L.P.; Application No. 99000779; Notice Seeking Exemption Under Section 312 of the Small Business Investment Act, Conflicts of Interest

Notice is hereby given that Claritas Capital Specialty Debt II, L.P., 30 Burton Hills Blvd., Suite 100, Nashville, TN 37215, a Federal Licensee applicant under the Small Business Investment Act of 1958, as amended (the “Act”), in connection with the financing of a small concern, has sought an exemption under Section 312 of the Act and Section 107.730, Financings which Constitute Conflicts of Interest of the Small Business Administration (“SBA”) Rules and Regulations (13 CFR 107.730). Claritas Capital Specialty Debt II, L.P. proposes to invest in Employment Control Holding Company, LLC, a portfolio company of its Associate Claritas Capital Specialty Debt Fund, L.P.

The financing is brought within the purview of § 107.730(a) of the Regulations because Claritas Capital Specialty Debt II, L.P. proposes to Finance a small business in which its Associate Claritas Capital Specialty Debt Fund, L.P. has an equity interest of at least 10 percent, so the transaction that will effect the proposed Financing requires prior SBA exemption.

Notice is hereby given that any interested person may submit written comments on the transaction, within fifteen days of the date of this publication, to the Associate Administrator for Investment, U.S. Small Business Administration, 409 Third Street SW., Washington, DC 20416.

Dated: December 21, 2012.
Sean J. Greene,
Associate Administrator for Investment.

[FR Doc. 2013-00799 Filed 1-15-13; 8:45 am]

BILLING CODE 8025-01-P